DEPARTMENT OF TRANSPORTATION

Federal Aviation Administration

14 CFR Part 39

[Docket No. FAA-2012-0335; Directorate Identifier 2011-NM-252-AD; Amendment 39-17211; AD 2011-21-07 R1]

RIN 2120-AA64

Airworthiness Directives; Bombardier, Inc. Airplanes

AGENCY: Federal Aviation Administration (FAA), Department of Transportation (DOT).

ACTION: Final rule.

SUMMARY: We are revising an existing airworthiness directive (AD) for certain Bombardier Model CL-600-2B19 (Regional Jet Series 100 & 440) airplanes; all Model CL-600-2C10 (Regional Jet Series 700, 701, & 702) airplanes; all Model CL-600-2D15 (Regional Jet Series 705) airplanes; and all Model CL-600-2D24 (Regional Jet Series 900) airplanes. That AD currently requires replacing certain water accumulator assemblies having a certain part installed on the pitot and static lines of the air data computer (ADC). This new AD corrects an erroneous service document number and removes the other erroneously cited service document from that AD. This new AD was prompted by an error that was discovered in one service document number, and a determination that credit for accomplishing actions in another erroneously cited service document should be removed from that AD. We are issuing this AD to prevent pitot-static tubing from becoming partially or completely blocked by water, which could result in erroneous airspeed and altitude indications and consequent loss of control of the airplane.

DATES: This AD becomes effective December 18, 2012.

The Director of the Federal Register approved the incorporation by reference of certain publications listed in this AD as of November 23, 2011 (76 FR 64801, October 19, 2011).

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Cesar Gomez, Aerospace Engineer, Airframe & Mechanical Systems Branch, ANE-171, New York Aircraft Certification Office (ACO), FAA, 1600 Stewart Avenue, Suite 410, Westbury, New York 11590; telephone (516) 228-7318; fax (516) 794-5531.

SUPPLEMENTARY INFORMATION:

Discussion

We issued a notice of proposed rulemaking (NPRM) to amend 14 CFR part 39 to include an AD that would apply to the specified products. That NPRM was published in the Federal Register on April 18, 2012 (77 FR 23169), and proposed to revise AD 2011-21-07, Amendment 39-16830 (76 FR 64801, October 19, 2011). That NPRM proposed to correct an unsafe condition for the specified products.

Since we issued AD 2011-21-07, Amendment 39-16830 (76 FR 64801, October 19, 2011), an error was discovered in the document number specified in paragraph (i), “Credit for Actions Accomplished in Accordance with Previous Service Information,” of that AD. The citation in that paragraph should have read “Bombardier Service Bulletin 601R-34-147, Revision A, dated November 3, 2009.” Additionally, we have determined that “Bombardier Service Bulletin 670BA-34-147, dated April 1, 2009,” was incorrectly included in AD 2011-21-07 and should be removed from paragraph (i) of that AD.

Comments

We gave the public the opportunity to participate in developing this AD. We have considered the comment received.

Request for Credit for Previous Actions

Air Wisconsin (AWI) requested that we revise the NPRM (77 FR 23169, April 18, 2012) to continue to give credit for previous actions for airplanes modified using Bombardier Service Bulletin 601R-34-147, dated April 1, 2009. AWI provided the following reasons for its request.

• AWI stated that in the original issue of Bombardier Service Bulletin 601R-34-147, dated April 1, 2009, for airplane serial numbers (S/N) 7003 through 7890, this service information called for the use of a parts kit that was different from the parts kit used for airplane S/Ns 7891 and subsequent. AWI stated that it discovered, during the use of that service information, that there was no difference between the two groups of airplanes. AWI stated that airplane S/Ns 7891 and subsequent needed to use the same parts kit as airplane S/Ns 7003 through 7890, with the only difference being that the kit for airplane S/Ns 7891 and subsequent lacked two tee fittings, part number AS1033W040406, which were contained in the kits for airplane S/Ns 7003 through 7891. AWI stated that, as a result of its discovery, Bombardier Service Bulletin 601R-34-147, dated April 1, 2009, was revised to Bombardier Service Bulletin 601R-34-147, Revision A, dated November 3, 2009, eliminating the reference to these two different groups of airplanes and correcting the materials kit to include the tee fittings.

• AWI stated that Bombardier Service Bulletin 601R-34-147, Revision A, dated November 3, 2009, does nothing to change parts kits or instructions for airplane S/Ns 7003 through 7890, but only makes the correction for airplane S/Ns 7891 and subsequent.

• AWI stated that airplane S/Ns 7891 and subsequent modified with the use of Bombardier Service Bulletin 601R-34-147, dated April 1, 2009, that used the additional tee fittings are in compliance with Bombardier Service Bulletin 601R-34-147, Revision A, dated November 3, 2009.

• AWI stated that it has completed this modification on its fleet of 71 affected airplanes and that airplane S/Ns 7891 and subsequent used the necessary tee fittings called for in Bombardier Service Bulletin 601R-34-147, Revision A, dated November 3, 2009.

• AWI stated that Bombardier Service Bulletin 601R-34-147, Revision A, dated November 3, 2009, clearly states on the transmittal, “The changes in this revision have no effect on aircraft that have incorporated a previous issue of the service bulletin.”

We do not agree to provide credit for previous actions done using Bombardier Service Bulletin 601R-34-147, dated April 1, 2009. We issued the NPRM (77 FR 23169, April 18, 2012) due to an error that was discovered in AD 2011-21-07, Amendment 39-16830 (76 FR 64801, October 19, 2011), in a service document number, and also due to a provision incorrectly giving credit for accomplishing previous actions in another erroneously cited service document. Credit for previous actions using Bombardier Service Bulletin 601R-34-147, dated April 1, 2009, is not appropriate because a modification kit requiring tee fittings was missing from that service information. In order to comply with the intent of the AD, Bombardier Service Bulletin 601R-34-147, Revision A, dated November 3, 2009, corrected the kit error, and hence, is mandated by this revised AD to correct the unsafe condition. Under the provisions of paragraph (j) of this AD, however, we will consider requests for approval of an alternative method of compliance (AMOC) if sufficient data are submitted to substantiate that a different method of compliance would provide an acceptable level of safety. We have not changed the AD in this regard.

Conclusion

We reviewed the available data, including the comment received, and determined that air safety and the public interest require adopting the AD as proposed except for minor editorial changes. We have determined that these minor changes:

• Are consistent with the intent that was proposed in the NPRM (77 FR 23169, April 18, 2012) for correcting the unsafe condition; and

• Do not add any additional burden upon the public than was already proposed in the NPRM (77 FR 23169, April 18, 2012).

Costs of Compliance

We estimate that this AD will affect about 1,041 products of U.S. registry. The new requirements of this AD add no additional economic burden. The current costs for this AD are repeated for the convenience of affected operators. The actions that are required by AD 2011-21-07, Amendment 39-16830 (76 FR 64801, October 19, 2011), and retained in this AD take about 2 work-hours per product, at an average labor rate of $85 per work-hour. Required parts cost about $1,200 per product. Based on these figures, the estimated cost of the currently required actions is $1,370 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 23169, April 18, 2012). The regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-16830 (76 FR 64801, October 19, 2011), and adding the following new AD:

2011-21-07 R1 Bombardier, Inc.: Amendment 39-17211. Docket No. FAA-2012-0335; Directorate Identifier 2011-NM-252-AD.

(a) Effective Date

This airworthiness directive (AD) becomes effective December 18, 2012.

(b) Affected ADs

This AD revises AD 2011-21-07, Amendment 39-16830 (76 FR 64801, October 19, 2011).

(c) Applicability

This AD applies to Bombardier, Inc. Model CL-600-2B19 (Regional Jet Series 100 & 440) airplanes, serial numbers 7003 through 7067 inclusive, 7069 through 7990 inclusive, 8000 through 8107 inclusive, and subsequent; all Model CL-600-2C10 (Regional Jet Series 700, 701, & 702) airplanes; all Model CL-600-2D15 (Regional Jet Series 705) airplanes; and all Model CL-600-2D24 (Regional Jet Series 900) airplanes; certificated in any category.

(d) Subject

Air Transport Association (ATA) of America Code 34, Navigation.

(e) Reason

This AD was prompted by reports of airspeed mismatch between the pilot and co-pilot's airspeed indicators. We are issuing this AD prevent pitot-static tubing from becoming partially or completely blocked by water, which could result in erroneous airspeed and altitude indications and consequent loss of control of the airplane.

(f) Compliance

You are responsible for having the actions required by this AD performed within the compliance times specified, unless the actions have already been done.

(g) Retained Replacement

This paragraph restates the requirements of paragraph (g) of AD 2011-21-07, Amendment 39-16830 (76 FR 64801, October 19, 2011). Within 9 months after November 23, 2011 (the effective date of AD 2011-21-07), do the actions specified in paragraphs (g)(1) and (g)(2) of this AD, as applicable.

(1) For Model CL-600-2B19 (Regional Jet Series 100 & 440) airplanes identified in Bombardier Service Bulletin 601R-34-147, Revision B, dated March 8, 2011: Replace water accumulator assemblies having part numbers (P/N) 50029-001, 9435015, 50030-001, and 9435014 installed on the pitot and static lines of the air data computer (ADC) with new or serviceable water accumulator assemblies having P/N 50036-001, in accordance with the Accomplishment Instructions of Bombardier Service Bulletin 601R-34-147, Revision B, dated March 8, 2011.

(2) For Model CL-600-2C10 (Regional Jet Series 700, 701, & 702), CL-600-2D15 (Regional Jet Series 705), and CL-600-2D24 (Regional Jet Series 900) airplanes: Replace water accumulator assemblies having P/N 50033-001 installed on the pitot and static lines of the ADC with new or serviceable water accumulator assemblies having P/N 50036-001, in accordance with the Accomplishment Instructions of Bombardier Service Bulletin 670BA-34-030, Revision B, dated March 23, 2010.

(h) Parts Installation Prohibition

As of November 23, 2011 (the effective date of AD 2011-21-07, Amendment 39-16830 (76 FR 64801, October 19, 2011)), no person may install on any airplane a water accumulator assembly, P/N 50029-001, 9435015, 50030-001, or 9435014 for Model CL-600-2B19 (Regional Jet Series 100 & 440) airplanes; or P/N 50033-001 for Model CL-600-2C10 (Regional Jet Series 700, 701, & 702) airplanes, Model CL-600-2D15 (Regional Jet Series 705) airplanes, and Model CL-600-2D24 (Regional Jet Series 900) airplanes; on the pitot and static lines of the ADC.

(i) Credit for Previous Actions

This paragraph restates the provisions of paragraph (i) of AD 2011-21-07, Amendment 39-16830 (76 FR 64801, October 19, 2011), with corrections.

(1) This paragraph provides credit for the replacement required by paragraph (g)(1) of this AD, if the replacement was performed before November 23, 2011 (the effective date of AD 2011-21-07, Amendment 39-16830 (76 FR 64801, October 19, 2011)), using Bombardier Service Bulletin 601R-34-147, Revision A, dated November 3, 2009 (for Model CL-600-2B19 (Regional Jet Series 100 & 440) airplanes).

(2) This paragraph provides credit for the replacement required by paragraph (g)(2) of this AD, if the replacement was performed before November 23, 2011 (the effective date of AD 2011-21-07, Amendment 39-16830 (76 FR 64801, October 19, 2011)), using Bombardier Service Bulletin 670BA-34-030, dated April 1, 2009; or Revision A, dated November 3, 2009 (for Model CL-600-2C10 (Regional Jet Series 700, 701, & 702) airplanes, Model CL-600-2D15 (Regional Jet Series 705) airplanes, and Model CL-600-2D24 (Regional Jet Series 900) airplanes).

(j) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the manager of the ACO, send it to ATTN: Program Manager, Continuing Operational Safety, FAA, New York ACO, 1600 Stewart Avenue, Suite 410, Westbury, New York 11590; telephone: (516) 228-7300; fax: (516) 794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on November 23, 2011 (76 FR 64801, October 19, 2011).

(i) Bombardier Service Bulletin 601R-34-147, Revision B, dated March 8, 2011.

(ii) Bombardier Service Bulletin 670BA-34-030, Revision B, dated March 23, 2010.

(4) For service information identified in this AD, contact Bombardier, Inc., 400 Côte-Vertu Road West, Dorval, Québec H4S 1Y9, Canada; phone: 514-855-5000; fax: 514-855-7401; email: thd.crj@aero.bombardier.com; Internet: http://www.bombardier.com.

(5) You may review copies of the service information at the FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, WA, on September 28, 2012.
Ali Bahrami,
Manager, Transport Airplane Directorate, Aircraft Certification Service.

[FR Doc. 2012-26890 Filed 11-9-12; 8:45 am]

BILLING CODE 4910-13-P